DEPARTMENT OF DEFENSE

Department of the Air Force

Notice of Intent to Prepare an Environmental Impact Statement for the Eligible Fort Kamehameha Historic District Alternatives at Hickam Air Force Base, HI

AGENCY: Pacific Air Forces, Department of the Air Force.

ACTION: Notice of Intent.

SUMMARY: In accordance with the National Environmental Policy Act (NEPA) of 1969 (42 United States Code [U.S.C.] §§ 4321-4347), the Council on Environmental Quality (CEQ) NEPA Regulations (40 Code of Federal Regulations [CFR] Parts 1500-1508), and the United States Air Force's (Air Force) Environmental Impact Analysis Process (EIAP) (32 CFR Part 989), the Air Force is issuing this notice to advise the public of its intent to prepare an Environmental Impact Statement (EIS).

The EIS will assess the potential environmental consequences of a proposal to define final disposition of housing units and associated structures known as the “Fort Kamehameha Historic District”; an area on Hickam AFB, O'ahu, Hawai'i, eligible for listing on the National Register of Historic Places (NRHP) in accordance with Section 110(a)(2) of the National Historic Preservation Act (NHPA).

Alternatives currently identified for evaluation would include various options that fall under the five categories of: adaptive-use; relocation; deconstruction and salvage; demolition; and the No Action alternative. Any Proposed Action could include a single action, or combination of actions, under the five categories above. Sub-actions under these categories may include: leasing; sale; transfer to another government agency; and retention by the Air Force. Compliance with the NHPA will be done through consultation under Section 106 of 36 CFR Part 800.

DATES: The Air Force will hold a scoping meeting to solicit public input concerning the scope of the Proposed Action and alternatives, as well as to help identify other concerns and issues to be addressed in the environmental analysis.

The scoping meeting will be held Thursday, July 8, 2008 from 5 to 8 p.m. at the Aliamanu Elementary School, 3265 Salt Lake Boulevard, Honolulu, HI.

ADDRESSES: Federal, state, and local agencies, and interested groups and persons are invited to attend the scoping meeting. All are encouraged to provide comments on the proposed action either at the scoping meeting or by mail, postmarked by July 21, 2008 to ensure proper consideration in the environmental impact analyses.

FOR FURTHER INFORMATION: Direct written comments or requests for further information to: Ms. Tiffany Patrick, 15 CES/CEVP NEPA Program Technical Support, 75 H Street, Bldg. 1202, Hickam AFB, HI 96853, Ph: (808) 449-3197.

Bao-Anh Trinh,
Air Force Federal Register Liaison Officer.

[FR Doc. E8-13845 Filed 6-18-08; 8:45 am]

BILLING CODE 5001-05-P